NATIONAL SCIENCE FOUNDATION

National Science Board; Sunshine Act Meetings; Impromptu Notice of Time & Location Change

The National Science Board's Committee on Program and Plans, pursuant to NSF regulations (45 CFR Part 614), the National Science Foundation Act, as amended (42 U.S.C. 1862n-5), and the Government in the Sunshine Act (5 U.S.C. 552b), hereby gives notice of an Impromptu Change in regard to the scheduling of a meeting for the transaction of National Science Board business and other matters specified, as follows:

ORIGINAL DATE AND TIME: Open Session, Monday, February 14, at 1 p.m. to 3:30 p.m. Closed Session, Monday, February 14, at 3:30 p.m. to 4:15 p.m.

NEW DATE AND TIME: Open Session, Monday, February 14, at 12:15 p.m. to 2:45 p.m. Closed Session, Monday, February 14, at 5:15 p.m. to 6:15 p.m.

SUBJECT MATTER: No change.

STATUS: No change.

ORIGINAL LOCATION: Room 1295 or 1235, National Science Foundation, 4201Wilson Blvd., Arlington, VA 22230.

NEW LOCATION: Room 1295. Public overflow room for the open session will be located in room 130, National Science Foundation, 4201 Wilson Blvd., Arlington, VA 22230.

VISITOR BADGE REQUIREMENTS: All visitors must report to the NSF visitor desk at the 9th and N. Stuart Streets entrance to receive a visitor's badge. Public visitors must arrange for a visitor's badge in advance. Call 703-292-7000 or e-mail NationalScienceBrd@nsf.gov and leave your name and place of business to request your badge, which will be ready for pick-up at the visitor's desk on the day of the meeting.

UPDATES AND POINT OF CONTACT: Please refer to the National Science Board website http://www.nsf.gov/nsb for additional information and schedule updates (time, place, subject matter or status of meeting) may be found at http://www.nsf.gov/nsb/notices/. Point of contact for this meeting is: Elizabeth Strickland, National Science Foundation, 4201Wilson Blvd., Arlington, VA 22230. Telephone: (703) 292-7000.

Daniel A. Lauretano,
Counsel to the National Science Board.

[FR Doc. 2011-3359 Filed 2-10-11; 4:15 pm]

BILLING CODE 7555-01-P